DEPARTMENT OF ENERGY

Assistance to Foreign Atomic Energy Activities; Secretarial Determination

AGENCY: National Nuclear Security Administration (NNSA), Department of Energy (DOE).

ACTION: Notice.

SUMMARY: On December 29, 2022, the Secretary of Energy (Secretary) issued a determination modifying the generally authorized destination status of Mexico for exports of controlled nuclear technology and assistance under DOE's regulation on Assistance to Foreign Atomic Energy Activities. Accordingly, DOE is publishing this determination.

FOR FURTHER INFORMATION CONTACT: Ms. Katie Strangis, Deputy Director, Office of Nonproliferation and Arms Control (NPAC), National Nuclear Security Administration, Department of Energy, 1000 Independence Avenue SW, Washington, DC 20585, telephone (202) 586-8623; Mr. Thomas Reilly, Office of the General Counsel, GC-74, Department of Energy, 1000 Independence Avenue SW, Washington, DC 20585, telephone (202) 586-3417; or Mr. Zachary Stern, Office of the General Counsel, National Nuclear Security Administration, Department of Energy, 1000 Independence Avenue SW, Washington, DC 20585, telephone (202) 586-8627.

SUPPLEMENTARY INFORMATION: On December 29, 2022, the Secretary issued a determination expanding Mexico's generally authorized destination status to cover the full scope of exports of controlled nuclear technology and assistance. The text of the determination is reprinted below. The Atomic Energy Act of 1954, as amended (42 U.S.C. 2077) (AEA), enables peaceful nuclear trade by helping to assure that nuclear technologies exported from the United States will not be used for non-peaceful purposes.

Part 810 of title 10, Code of Federal Regulations (part 810) implements section 57 b.(2) of the AEA, pursuant to which the Secretary has granted a general authorization for certain categories of activities which the Secretary has found to be non-inimical to the interest of the United States—including assistance or transfers of technology to the “generally authorized destinations” listed in appendix A to part 810.

Signing Authority

This document of the Department of Energy was signed on January 25, 2023, by Katie D. Strangis, Deputy Director, Office of Nonproliferation and Arms Control, National Nuclear Security Administration, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on January 26, 2023.
Treena V. Garrett,
Federal Register Liaison Officer, U.S. Department of Energy.

Appendix

Set forth below is the full text of the Secretarial Determination:

Determination and Authorization Pursuant to Section 57 b.(2) of the Atomic Energy Act of 1954, as Amended, Regarding Exports of Nuclear Technology and Assistance to Mexico

Having considered the Department of Energy's National Nuclear Security Administration (DOE/NNSA) recommendation, the Department of State's concurrence, and the consultations with the Departments of Defense and Commerce and the Nuclear Regulatory Commission, I have determined pursuant to section 57 b.(2) of the Atomic Energy Act of 1954, as amended, that a general authorization under DOE regulations at 10 CFR part 810 (Part 810) for exports of Part 810—controlled nuclear technology and assistance to Mexico will not be inimical to the interest of the United States, provided that no sensitive nuclear technology or assistance described in 10 CFR 810.7 is involved.

Whether a destination is determined to be generally or specifically authorized depends on a number of factors, including the existence of a bilateral peaceful nuclear cooperation agreement (“123 agreement”) with the United States. The U.S.-Mexico 123 Agreement entered into force on November 2, 2022. As such, and in consideration of relevant factors, I have determined that expanding Mexico's generally authorized status to cover the full scope of exports of Part 810-controlled nuclear technology and assistance to Mexico under 10 CFR 810.6(a) meets the non-inimicality standard.

I therefore modify Mexico's status as a generally authorized destination under 10 CFR 810.6(a) to remove the current restriction to activities related to INFCIRC/203 Parts 1 and 2 and INFCIRC/825.

Accordingly, as of the date on which this determination is issued, all currently issued specific authorizations pursuant to 10 CFR 810.7(a) of exports of Part 810—controlled nuclear technology and assistance to Mexico are eligible for the general authorization under 10 CFR 810.6(a), subject to the reporting requirements described in 10 CFR 810.12(e). Initial reporting in accordance with 10 CFR 810.12(e) may also serve to satisfy reporting requirements under 10 CFR 810.12(b) if specified accordingly. Activities subject to 10 CFR 810.7(b)-(c) continue to require specific authorization.

Date: December 29, 2022.

Jennifer Granholm,

Secretary of Energy.

[FR Doc. 2023-01960 Filed 1-30-23; 8:45 am]

BILLING CODE 6450-01-P